COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds to the Procurement List commodities and services to be furnished by nonprofit agencies employing persons who are blind or have other severe disabilities, and deletes from the Procurement List a commodity and services previously furnished by such agencies.

EFFECTIVE DATE: March 12, 2001.

ADDRESSES: Committee for Purchase From People Who Are Blind or Severely Disabled, Jefferson Plaza 2, Suite 10800, 1421 Jefferson Davis Highway, Arlington, Virginia 22202-3259.

FOR FURTHER INFORMATION CONTACT: Louis R. Bartalot (703) 603-7740.

SUPPLEMENTARY INFORMATION: On December 15 and December 22, 2000 the Committee for Purchase From People Who Are Blind or Severely Disabled published notices (65 FR 78466 and 80833) of proposed additions to and deletions from the Procurement List:

Additions

The Following Comments Pertain to Uniform Rental Service, National Institute of Health, Bethesda, Maryland

Comments were received from the current contractor in response to a request for sales data. The contractor described what it does to provide the uniform service, which is basically the same tasks that the nonprofit agency designated by the Committee will perform, and noted that it had dedicated employees to provide the service. The contractor also noted that it uses a nonprofit agency for people with disabilities to support its provision of the service. The contractor further noted that loss of the service would have a substantial impact on a contractor facility and that facility's ability to pay expenses and employees. In a second letter, the contractor stated that it had been active in supporting blind services in its headquarters city for a number of years and had received an award for that support.

The Committee looks to the total sales of a corporation in assessing the severity of impact of a Procurement List addition on that corporation. Because of the size of the contractor's corporation, the impact of this addition is very small. The contractor has not provided data concerning the impact of the addition on the nonprofit agency which supports the work of the contractor's facility, nor has the nonprofit agency provided such data. Consequently, the Committee believes that the impact on the nonprofit agency will not be substantial.

The Committee appreciates the fact that the contractor supports blind services in its headquarters city. However, the contractor has not indicated that its support will be affected by the Procurement List addition, nor otherwise indicated that adverse impact on the blind groups it supports will occur if the addition is made. Therefore, the Committee does not see this information as relevant to its addition decision.

The Following Material Pertains to All of the Items Being Added to the Procurement List

After consideration of the material presented to it concerning capability of qualified nonprofit agencies to provide the commodity and services and impact of the additions on the current or most recent contractors, the Committee has determined that the commodities and services listed below are suitable for procurement by the Federal Government under 41 U.S.C. 46-48c and 41 CFR 51-2.4.

I certify that the following action will not have a significant impact on a substantial number of small entities. The major factors considered for this certification were:

1. The action will not result in any additional reporting, recordkeeping or other compliance requirements for small entities other than the small organizations that will furnish the commodities and services to the Government.

2. The action will not have a severe economic impact on current contractors for the commodities and services.

3. The action will result in authorizing small entities to furnish the commodities and services to the Government.

4. There are no known regulatory alternatives which would accomplish the objectives of the Javits-Wagner-O'Day Act (41 U.S.C. 46-48c) in connection with the commodities and services proposed for addition to the Procurement List.

Accordingly, the following commodities and services are hereby added to the Procurement List:

Commodities

Kit, Martial Arms Training

7810-00-NSH-0001

7810-00-NSH-0002

7810-00-NSH-0003

Services

Janitorial/Custodial

Naval & Marine Corps Reserve Center, Peoria, Illinois

Janitorial/Custodial

Illinois Air National Guard, 182nd Airlift Wing, Peoria, Illinois

Janitorial/Custodial

Naval & Marine Corps Reserve Center, Lehigh Valley, Pennsylvania

Mailroom Operation

McCoy Federal Building, Jackson, Mississippi

Uniform Rental Service

National Institute of Health, Bethesda, Maryland

This action does not affect current contracts awarded prior to the effective date of this addition or options that may be exercised under those contracts.

Deletions

I certify that the following action will not have a significant impact on a substantial number of small entities. The major factors considered for this certification were:

1. The action will not result in any additional reporting, recordkeeping or other compliance requirements for small entities.

2. The action will not have a severe economic impact on future contractors for the commodity and services.

3. The action will result in authorizing small entities to furnish the commodity and services to the Government.

4. There are no known regulatory alternatives which would accomplish the objectives of the Javits-Wagner-O'Day Act (41 U.S.C. 46-48c) in connection with the commodity and services deleted from the Procurement List.

After consideration of the relevant matter presented, the Committee has determined that the commodity and services listed below are no longer suitable for procurement by the Federal Government under 41 U.S.C. 46-48c and 41 CFR 51-2.4. Accordingly, the following commodity and services are hereby deleted from the Procurement List:

Commodity

Floorboard, Wood

2510-01-067-2630

Services:

Administrative Services

Frank Hagel Federal Building, 1221 Nevin Avenue, Richmond, California

Grounds Maintenance

Mare Island Naval Complex and Roosevelt Terrence and Combat Systems Technical School Command, Mare Island Naval Shipyard, Vallejo, California

Janitorial/Custodial

U.S. Federal Building and Courthouse, 110 S. 4th Street, Minneapolis, Minnesota

Parts Sorting

Kelly Air Force Base, Texas

G. John Heyer,
General Counsel.

[FR Doc. 01-3386 Filed 2-8-01; 8:45 am]

BILLING CODE 6353-01-P